DEPARTMENT OF COMMERCE

Membership of the Office of the Secretary Performance Review Board

AGENCY: Department of Commerce.

ACTION: Notice of Membership on the Office of the Secretary Performance Review Board.

SUMMARY: In accordance with 5.U.S.C., 4314(c)(4), Department of Commerce (DOC) announces the appointment of persons to serve as members of the Office of the Secretary (OS) Performance Review Board (PRB). The OS PRB is responsible for reviewing performance ratings, pay adjustments and bonuses of Senior Executive Service (SES) members. The term of the new members of the OS PRB will expire December 31, 2017.

DATES: Effective Date: The effective date of service of appointees to the Office of the Secretary Performance Review Board is upon publication of this notice.

FOR FURTHER INFORMATION CONTACT: Denise A. Yaag, Director, Office of Executive Resources, Office of Human Resources Management, Office of the Director, 14th and Constitution Avenue NW., Washington, DC 20230, (202) 482-3600.

SUPPLEMENTARY INFORMATION: The names, position titles, and type of appointment of the members of the OS/PRB are set forth below by organization:

Office of the Secretary Performance Review Board 2015-2016

Members

Lisa A. Casias, Director for Financial Management Deputy Chief Financial Officer, CFO/ASA

Pravina Raghavan, Senior Advisor for Policy and Program Integration, Office of the Deputy Secretary

Rafael Madan, Acting Assistant General Counsel for Administration, U.S. Department of Justice

Tinisha L. Agramonte, Director, Office of Civil Rights, CFO/ASA

Theresa Christopher, Senior Advisor for Gulf Restoration, Office of the Deputy Secretary (Noncareer)

Theodore C.Z. Johnston, Director, Office of Business Liaison, OS (Noncareer)

Stephen D. Kong, Chief Counsel for Economic Development, Office of the General Counsel

Theodore E. Lecompte, Deputy Chief of Staff, Office of the Secretary

Carol M. Rose, Chief Financial Officer and Director of Administration, Bureau of Industry and Security

Alternates

Barry K. Robinson, Chief Counsel for Economic Affairs. Office of the General Counsel

Gordon T. Alston, Director, Financial Reporting and Internal Controls, CFO/ASA

Ethan Corson, Director, Executive Secretariat, OS (Noncareer)

Lauren Leonard, Director, Office of White House Liaison (Noncareer)

Dated: September 22, 2015.
Denise A. Yaag,
Director, Office of Executive Resources.

[FR Doc. 2015-25071 Filed 10-2-15; 8:45 am]

BILLING CODE 3510-DBS-M